DEPARTMENT OF HEALTH AND HUMAN SERVICES

Health Resources and Services Administration

Advisory Committee on Training in Primary Care Medicine and Dentistry; Notice of Meeting

In accordance with section 10(a)(2) of the Federal Advisory Committee Act (Pub. L. 92-463), notice is hereby given of the following meeting:

Name: Advisory Committee on Training in Primary Care Medicine and Dentistry (ACTPCMD).

Date and Time: April 22, 2010, 8 a.m.-4:30 p.m. EST.

Place: DoubleTree Hotel Bethesda, 8120 Wisconsin Avenue, Bethesda, Maryland 20814.

Status: The meeting will be open to the public.

Purpose: The Advisory Committee provides advice and recommendations on a broad range of issues dealing with programs and activities authorized under section 747 of the Public Health Service Act as amended by The Health Professions Education Partnership Act of 1998, Public Law 105-392. At this meeting the Advisory Committee will work on its ninth report about ways to encourage students into careers in the primary care health professions. Reports are submitted to the Secretary of the Department of Health and Human Services and to Congress.

Agenda: The meeting on Thursday, April 22 will begin with opening comments from the Health Resources and Services Administration, Bureau of Health Professions, Division of Medicine and Dentistry. In the plenary session, the Advisory Committee will continue its work on key report elements and final recommendations for the ninth report on the primary care pipeline. The Advisory Committee will determine next steps in the report preparation process and plan for the next Advisory Committee meeting. An opportunity will be provided for public comment.

For Further Information Contact: Anyone interested in obtaining a roster of members or other relevant information should write or contact Jerilyn K. Glass, M.D., PhD, Division of Medicine and Dentistry, Bureau of Health Professions, Health Resources and Services Administration, Room 9A-27, Parklawn Building, 5600 Fishers Lane, Rockville, Maryland 20857, Telephone (301) 443-6190. The Web address for information on the Advisory Committee is http://bhpr.hrsa.gov/medicine-dentistry/actpcmd.

Supplementary Information: Requests to make oral comments or to provide written comments to the Committee should be sent to Jerilyn K. Glass, M.D., PhD, Executive Secretary, ACTPCMD, at the contact information above. Individuals who plan to attend and need special assistance should notify the office at the address and phone number above at least 10 days prior to the meeting. Members of the public will have the opportunity to provide comments at the meeting.

The Advisory Committee will join the Council on Graduate Medical Education (COGME), the National Advisory Council on Nursing Education and Practice (NACNEP), and the Advisory Committee on Interdisciplinary, Community-Based Linkages (ACICBL) on Wednesday, April 21, 2010 for the third Bureau of Health Professions (BHPr) All Advisory Committee Meeting. Please refer to the Federal Register notice for the BHPr All Advisory Committee Meeting for additional details.

Dated: March 18, 2010.
Sahira Rafiullah,
Director, Division of Policy and Information Coordination.

[FR Doc. 2010-6585 Filed 3-24-10; 8:45 am]

BILLING CODE 4165-15-P